DEPARTMENT OF COMMERCE

International Trade Administration

[A-570-912]

Certain New Pneumatic Off-the-Road Tires From the People's Republic of China: Final Results of Antidumping Duty Changed Circumstances Review

AGENCY: Enforcement and Compliance, formerly Import Administration, International Trade Administration, Department of Commerce.

SUMMARY: On December 27, 2013, the Department of Commerce (“the Department”) published its Preliminary Results of a changed circumstances review (“CCR”) of the antidumping duty order on certain new pneumatic off-the road (“OTR”) tires from the People's Republic of China (“PRC”).¹ The Department preliminarily determined that Zhongce Rubber Group Company Limited (“Zhongce”) is the successor-in-interest to Hangzhou Zhongce Rubber Co., Ltd. (“Hangzhou”) and invited parties to comment on the Preliminary Results. As no parties submitted subsequent comment, the Department is making no changes to the Preliminary Results.

¹ See Certain New Pneumatic Off-the-Road Tires from the People's Republic of China: Initiation and Preliminary Results of Antidumping Duty Changed Circumstances Review, 78 FR 78814 (December 27, 2013) (“Preliminary Results”).

DATES: Effective Date: February 12, 2014.

FOR FURTHER INFORMATION CONTACT: Andrew Medley, AD/CVD Operations, Office III, Enforcement and Compliance, International Trade Administration, U.S. Department of Commerce, 1401 Constitution Avenue NW., Washington, DC 20230; telephone: 202-482-4987.

SUPPLEMENTARY INFORMATION:

Background

On September 4, 2008, the Department published in the Federal Register an antidumping duty order on OTR tires from the PRC.² In the third administrative review of the Order, Hangzhou received its own calculated rate of 112.41 percent.³

² See Certain New Pneumatic Off-the-Road Tires From the People's Republic of China: Notice of Amended Final Affirmative Determination of Sales at Less Than Fair Value and Antidumping Duty Order, 73 FR 51624 (September 4, 2008) (“Order”).

³ See Certain New Pneumatic Off-the-Road Tires From the People's Republic of China: Final Results of Antidumping Duty Administrative Review and Final Rescission, in Part; 2010-2011, 78 FR 22513 (April 16, 2013).

On November 5, 2013, Zhongce requested that the Department conduct a changed circumstances review of the Order to confirm that Zhongce is the successor-in-interest to Hangzhou.⁴ In its submission, Zhongce explained that the only change was to the name of the company, and provided evidence supporting its claim.⁵

⁴ See Letter from Zhongce to the Department titled “New Pneumatic Off-The-Road Tires From the PRC: Request for Hangzhou Zhongce Rubber Co., Ltd. for Changed Circumstances Review” (November 5, 2013).

⁵ Id. at 2-3 and Attachments 1, 2, and 3.

On December 27, 2013, we made a preliminary finding that Zhongce is the successor-in-interest to Hangzhou and thus, should receive the same antidumping duty treatment with respect to OTR tires from the PRC as the former Hangzhou.⁶ We also stated that interested parties had 30 days in which to request a hearing and submit case briefs.⁷ No party submitted case briefs. Thus, consistent with 19 CFR 351.216(e), we are issuing this final determination within 45 days of our preliminary finding.

⁶ See Preliminary Results, 78 FR at 78815.

⁷ Id.

Scope of the Order

The merchandise covered by this Order includes new pneumatic tires designed for off-the-road and off-highway use, subject to certain exceptions.⁸ The subject merchandise is currently classifiable under Harmonized Tariff Schedule of the United States (“HTSUS”) subheadings: 4011.20.10.25, 4011.20.10.35, 4011.20.50.30, 4011.20.50.50, 4011.61.00.00, 4011.62.00.00, 4011.63.00.00, 4011.69.00.00, 4011.92.00.00, 4011.93.40.00, 4011.93.80.00, 4011.94.40.00, and 4011.94.80.00. The HTSUS subheadings are provided for convenience and customs purposes only; the written product description of the scope of the order is dispositive.

⁸ For a complete description of the scope of the Order, see Certain New Pneumatic Off-the-Road Tires From the People's Republic of China: Final Results of Antidumping Duty New Shipper Review; 2011-2012, 78 FR 33341 (June 4, 2013), and accompanying Issues and Decision Memorandum at “Scope.”

Final Results of Changed Circumstances Review

Because no parties submitted comments opposing the Department's Preliminary Results, and because there is no other information or evidence on the record that calls into question the Preliminary Results, the Department determines that Zhongce is the successor-in-interest to Hangzhou for the purpose of determining antidumping duty liability.

Instructions to U.S. Customs and Border Protection

The Department will instruct U.S. Customs and Border Protection to suspend liquidation and collect a cash deposit rate of 112.41 percent on all shipments of the subject merchandise exported by Zhongce and entered, or withdrawn from warehouse, for consumption, on or after the publication date of these results of changed circumstances review.⁹

⁹ See, e.g., Stainless Steel Plate in Coils From Belgium: Notice of Final Results of Antidumping Duty Changed Circumstances Review, 77 FR 21963 (April 12, 2012); see also Notice of Final Results of Antidumping Duty Changed Circumstances Review: Certain Frozen Warmwater Shrimp From Thailand, 75 FR 74684, 74685 (December 1, 2010).

Notification

This notice serves as a reminder to parties subject to administrative protective order (“APO”) of their responsibility concerning the disposition of proprietary information disclosed under APO in accordance with 19 CFR 351.306. Timely written notification of the return/destruction of APO materials or conversion to judicial protective order is hereby requested. Failure to comply with the regulations and terms of an APO is a sanctionable violation.

We are issuing and publishing these final results and notice in accordance with sections 751(b) and 777(i) of the Tariff Act of 1930, as amended, and 19 CFR 351.216 and 351.221(c)(3).

Dated: February 6, 2014.
Paul Piquado,
Assistant Secretary for Enforcement and Compliance.

[FR Doc. 2014-03069 Filed 2-11-14; 8:45 am]

BILLING CODE 3510-DS-P